Title 3—

The President

Proclamation 8092 of December 22, 2006

National Mentoring Month, 2007

By the President of the United States of America

A Proclamation

During National Mentoring Month, we honor the caring individuals across our Nation who are committed to helping the next generation of Americans reach their full potential.

Mentors help teach important skills that are necessary for a healthy, successful life and help shape the character of our young people. They instill compassion and responsibility in our children and help motivate them to do their best in school. By providing leadership and guidance, mentors can inspire young people to set high goals and help them achieve a bright future.

My Administration is committed to helping the next generation realize the promise of our Nation. Through the USA Freedom Corps, we are providing opportunities for mentors to connect with children in schools, after-school programs, and community groups. The Helping America's Youth initiative, led by First Lady Laura Bush, raises awareness about the challenges facing our youth and encourages adults to connect with youth in three key areas: family, school, and community. The initiative also supports community partnerships that develop opportunities for mentoring and positive youth development.

I appreciate the contributions of all those who serve as mentors, and I encourage all Americans to get involved in mentoring programs. To learn about mentoring opportunities, citizens can visit the USA Freedom Corps website at volunteer.gov. By joining teachers, coaches, religious leaders, relatives, and other mentors, individuals can use their talents and experiences to enrich the lives of young people and demonstrate the compassionate spirit of America.

NOW, THEREFORE, I, GEORGE W. BUSH, President of the United States of America, by virtue of the authority vested in me by the Constitution and laws of the United States, do hereby proclaim January 2007 as National Mentoring Month. I call upon the people of the United States to recognize the importance of mentoring, to look for opportunities to serve as mentors in their communities, and to observe this month with appropriate activities and programs.

IN WITNESS WHEREOF, I have hereunto set my hand this twenty-second day of December, in the year of our Lord two thousand six, and of the Independence of the United States of America the two hundred and thirty-first.

[FR Doc. 06-9961

Filed 12-28-06; 8:49 am]

Billing code 3195-01-P